DEPARTMENT OF HEALTH AND HUMAN SERVICES

Administration for Children and Families

Proposed Projects

Title: Grants to states for access and visitation programs.

OMB No.: 0970-0204.

Description: States are required to provide descriptions of grant funded local and/or state access and visitation programs and data on these programs with regard to numbers of participants, referral sources, project goals, services delivered, and other relevant data.

Respondents: State access and visitation program monitors; local project administrators.

Annual Burden Estimates
Instrument | Number of respondents | Number of responses per respondent | Average burden hours per response | Total burden hours
Program survey | 324 | 1 | 20 | 6,480
Estimated total annual burden hours |  |  |  | 6,480

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collections of information; (c) the quality, utility, and clarity of the information to be collected; and (d) ways to minimize the burden of the collection of information on respondents, including through the use of automated collection techniques or other forms of information technology. Consideration will be given to comments and suggestions submitted within 60 days of this publication.

Dated: February 13, 2002.
Bob Sargis,
Reports Clearance Officer.

[FR Doc. 02-4341 Filed 2-22-02; 8:45 am]

BILLING CODE 4184-01-M